DEPARTMENT OF THE INTERIOR

National Park Service

[NPS-WASO-NAGPRA-NPS0033984; PPWOCRADN0-PCU00RP14.R50000]

Notice of Intent To Repatriate Cultural Items: Tennessee Valley Authority, Knoxville, TN

AGENCY: National Park Service, Interior.

ACTION: Notice.

SUMMARY: The Tennessee Valley Authority (TVA), in consultation with the appropriate Indian Tribes or Native Hawaiian organizations, has determined that the cultural items listed in this notice meet the definition of sacred objects. Lineal descendants or representatives of any Indian Tribe or Native Hawaiian organization not identified in this notice that wish to claim these cultural items should submit a written request to the TVA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the TVA at the address in this notice by July 6, 2022.

FOR FURTHER INFORMATION CONTACT: Ms. Marianne Shuler, Tennessee Valley Authority, 400 West Summit Hill Drive, WT11C, Knoxville, TN 37902-1401, telephone (865) 253-1265, email mmshuler@tva.gov.

SUPPLEMENTARY INFORMATION: Notice is here given in accordance with the Native American Graves Protection and Repatriation Act (NAGPRA), 25 U.S.C. 3005, of the intent to repatriate cultural items under the control of the Tennessee Valley Authority, Knoxville, TN, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1989 and November of 1990, cultural items were removed from Dust Cave, site 1LU496, in Lauderdale County, AL. Dust Cave is situated on a bluff adjacent to the right descending bank of the Tennessee River inside TVA's Pickwick Reservoir. The cave was recorded in the 1980s by Richard Cobb following exploration by local speleologists. A subsequent evaluation of caves adjacent to Pickwick Reservoir verified that Dust Cave had a human habitation of considerable antiquity. Dust Cave was the focus of excavations by the University of Alabama from 1989 to 2002. The two sacred objects are one lot of dog remains and one lot of lithics.

Based on oral traditional information provided during consultation with The Chickasaw Nation about the role of the white dog Ofi' Tohbi Ishto' in the Chickasaw Migration story and the need of The Chickasaw Nation to venerate these animals alongside ancestral remains in current day reburial practices, TVA has determined that the dog remains and the lithics are sacred objects.

Determinations Made by the Tennessee Valley Authority

Officials of the Tennessee Valley Authority have determined that:

• Pursuant to 25 U.S.C. 3001(3)(C), the two cultural items described above are specific ceremonial objects needed by traditional Native American religious leaders for the practice of traditional Native American religions by their present-day adherents.

• Pursuant to 25 U.S.C. 3001(2), there is a relationship of shared group identity that can be reasonably traced between the sacred objects and the Cherokee Nation; Eastern Band of Cherokee Indians, and The Chickasaw Nation (hereafter referred to as “The Tribes”).

Additional Requestors and Disposition

Lineal descendants or representatives of any Indian Tribe or Native Hawaiian organization not identified in this notice that wish to claim these cultural items should submit a written request with information in support of the claim to Ms. Marianne Shuler, Tennessee Valley Authority, 400 West Summit Hill Drive, WT11C, Knoxville, TN 37902-1401, telephone (865) 253-1265, email mmshuler@tva.gov, by July 6, 2022. After that date, if no additional claimants have come forward, transfer of control of the sacred objects to The Tribes may proceed.

The Tennessee Valley Authority is responsible for notifying The Tribes that this notice has been published.

Dated: May 25, 2022.
Melanie O'Brien,
Manager, National NAGPRA Program.

[FR Doc. 2022-12110 Filed 6-3-22; 8:45 am]

BILLING CODE 4312-52-P